DEPARTMENT OF TRANSPORTATION

Office of the Secretary

[Docket No. DOT-OST-2025-1491]

United States Department of Transportation Advisory Board; Public Meeting

AGENCY: Office of the Secretary (OST), Department of Transportation (DOT).

ACTION: Notice of meeting; cancellation.

On October 9, 2025, DOT published a notice in the Federal Register at 90 FR 48212 regarding a public meeting scheduled for October 22, 2025, at 2:00 p.m. This notice serves to announce the cancellation of that public meeting.

Loren A. Smith, Jr.,
Deputy Assistant Secretary for Transportation Policy.

[FR Doc. 2025-19596 Filed 10-17-25; 8:45 am]

BILLING CODE 4910-9X-P